DEPARTMENT OF ENERGY

Proposed Agency Information Collection

AGENCY: Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before September 27, 2004. If you anticipate difficulty in submitting comments within that period, contact the person listed below as soon as possible.

ADDRESSES: Written comments may be sent to Joseph Konrade, U.S. Department of Energy, EE-2K/Forestal Building, 1000 Independence Ave. SW., Washington, DC 20585 or by fax at 202-586-1233 or by e-mail at joseph.konrade@ee.doe.gov and to Susan L. Frey, Director, Records Management Division, IM-11/Germantown Bldg., Office of the Chief Information Officer, U.S. Department of Energy, 1000 Independence Ave SW., Washington, DC 20585-1290 or by fax, 301-903-9061 or by e-mail susan.frey@hq.doe.gov.

FOR FURTHER INFORMATION CONTACT: Requests for additional information or copies of the information collection instrument and instructions should be directed to Joseph Konrade at the address listed above.

SUPPLEMENTARY INFORMATION: This package contains:

(1) OMB No.: 1910-New.

(2) Package Title: State Energy Program.

(3) Type of Review: New.

(4) Purpose: The State Energy Program purpose is to promote the conservation of energy, to reduce the rate of growth of energy demand and to reduce dependence on imported oil through the development and implementation of a comprehensive State Energy Program and the provision of Federal financial and technical assistance to States in support of such program. The State Plan Information Worksheet Form is designed to standardize the State Plan Application in electronic format. Information collected will be stored in a database that will provide program specific information for Congressional, budgetary, and public inquiry.

(5) Respondents: Fifty Six States and Territories.

(6) Estimated Number of Burden Hours: Burden is estimated at nine hours per state/territory totaling 504 hours.

Statutory Authority: This collection of information is in accordance with 10 CFR part 420.

Issued in Washington, DC, on July 22, 2004.
Susan L. Frey,
Director, Records Management Division, Office of the Chief Information Officer.

[FR Doc. 04-17160 Filed 7-27-04; 8:45 am]

BILLING CODE 6450-01-P